DEPARTMENT OF VETERANS AFFAIRS

[OMB Control No. 2900-0073]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before October 2, 2003.

For Further Information or a Copy of the Submission Contact: Denise McLamb, Records Management Service (005E3), Department of Veterans Affairs, 810 Vermont Avenue, NW., Washington, DC 20420, (202) 273-8030, FAX (202) 273-5981 or e-mail: denise.mclamb@mail.va.gov. Please refer to “OMB Control No. 2900-0073.”

Send comments and recommendations concerning any aspect of the information collection to VA's OMB Desk Officer, OMB Human Resources and Housing Branch, New Executive Office Building, Room 10235, Washington, DC 20503, (202) 395-7316. Please refer to “OMB Control No. 2900-0073” in any correspondence.

SUPPLEMENTARY INFORMATION: Title: Enrollment Certification, VA Form 22-1999.

(Note: A reference to VA Form 22-1999 also includes VA Forms 22-1999-1, 22-1999-2, 22-1999-3, 22-1999-4, 22-1999-5, and 22-1999-6 which contains the same information as VA Form 22-1999.)

OMB Control Number: 2900-0073.

Type of Review: Extension of a currently approved collection.

Abstract: Educational institutions and job establishments use VA Form 22-1999 to report information concerning the enrollment or reenrollment into training of veterans, service persons, reservists, and other eligible persons. VA is authorized to make payments in advance if the trainee requests an advance payment. In certain instances, VA is authorized to make a lump sum payment of a claimant's tuition and fees if the trainee requests an accelerated payment. The form serves as the trainee's request for an advance or accelerated payments as well as the educational institutions report to the trainee's enrollment. The information collected on the form is used to determine the amount of educational benefits payable to the trainee during the period of enrollment or training. Without the information, VA would not have a basis upon which to make payment.

An agency may not conduct or sponsor, and a person is not required to respond to a collection of information unless it displays a currently valid OMB control number. The Federal Register notice with a 60-day comment period soliciting comments on this collection of information was published on June 3, 2003, at page 33227.

Affected Public: Business or other for-profit, Not-for-profit institutions, Federal Government, and State, local or Tribal government.

Estimated Annual Burden: 137,424 hours.

Estimated Average Burden Per Respondent: 10 minutes.

Frequency of Response: On occasion.

Estimated Annual Responses: 916,160.

Estimated Number of Respondents: 8,180.

Dated: August 21, 2003.
By direction of the Secretary:
Denise McLamb,
Program Analyst, Records Management Service.

[FR Doc. 03-22197 Filed 8-29-03; 8:45 am]

BILLING CODE 8320-01-P